DEPARTMENT OF TRANSPORTATION

Federal Aviation Administration

14 CFR Part 71

[Airspace Docket No. 00-AGL-01]

Modification of Class D Airspace; Establishment of Class E Airspace; and Modification of Class E Airspace; Belleville, IL

AGENCY: Federal Aviation Administration (FAA), DOT.

ACTION: Final rule.

SUMMARY: This action modifies Class D airspace, modifies Class E airspace and establishes Class E airspace at Belleville, IL. An Instrument Landing System (ILS) Standard Instrument Approach Procedure (SIAP) to Runway (Rwy) 32L, a Tactical Air Navigation (TACAN) SIAP to Rwy 32L, and a TACAN SIAP to Rwy 14R, have been developed for Scott AFB/MidAmerica Airport. Controlled airspace extending upward from the surface is needed to contain aircraft executing these approaches. This action increases the radius of the existing Class D airspace, creates a new Class E airspace extension to the Class D airspace, and modifies the existing Class E airspace by increasing the radius and modifying the extensions, for Scott AFB/MidAmerica Airport.

EFFECTIVE DATE: 0901 UTC, August 10, 2000.

FOR FURTHER INFORMATION CONTACT: Denis C. Burke, Air Traffic Division, Airspace Branch, AGL-520, Federal Aviation Administration, 2300 East Devon Avenue, Des Plaines, Illinois 60018, telephone (847) 294-7568.

SUPPLEMENTARY INFORMATION:

History

On Friday, February 18, 2000, the FAA proposed to amend 14 CFR part 71 to modify Class D airspace and Class E airspace and create Class E airspace at Belleville, IL (65 FR 8322). The proposal was to modify controlled airspace extending upward from the surface to contain Instrument Flight Rules (IFR) operations in controlled airspace during portions of the terminal operation and while transiting between the enroute and terminal environments. Interested parties were invited to participate in this rulemaking proceeding by submitting written comments on the proposal to the FAA. No comments objecting to the proposal were received. Class D airspace designations are published in paragraph 5000, Class E airspace areas designated as extensions to a Class D airspace area are published in paragraph 6004, and Class E airspace areas extending upward from 700 feet or more above the surface of the earth are published in paragraph 6005, of FAA Order 7400.9G dated September 1, 1999, and effective September 16, 1999, which is incorporated by reference in 14 CFR 71.1. The Class D airspace designation and Class E airspace designations listed in this document will be published subsequently in the Order.

The Rule

This amendment to 14 CFR part 71 modifies Class D airspace and Class E airspace and creates Class E airspace at Belleville, IL, to accommodate aircraft executing instrument flight procedures into and out of Scott AFB/MidAmerican Airport. The area will be depicted on appropriate aeronautical charts.

The FAA has determined that this regulation only involves an established body of technical regulations for which frequent and routine amendments are necessary to keep them operationally current. Therefore, this regulation—(1) Is not a “significant regulatory action” under Executive Order 12866; (2) is not a “significant rule” under DOT Regulatory Policies and Procedures (44 FR 11034; February 26, 1979); and (3) does not warrant preparation of a Regulatory Evaluation as the anticipated impact is so minimal. Since this is a routine matter that will only affect air traffic procedures and air navigation, it is certified that this rule will not have a significant economic impact on a substantial number of small entities under the criteria of the Regulatory Flexibility Act.

List of Subjects in 14 CFR Part 71

Airspace, Incorporation by reference, Navigation (air).

Adoption of the Amendment

In consideration of the foregoing, the Federal Aviation Administration amends 14 CFR part 71 as follows:

PART 71—DESIGNATION OF CLASS A, CLASS B, CLASS C, CLASS D, AND CLASS E AIRSPACE AREAS; AIRWAYS; ROUTES; AND REPORTING POINTS

1. The authority citation for part 71 continues to read as follows:

Authority: 49 U.S.C. 106(g), 40103, 40113, 40120; E.O. 10854, 24 FR 95665, 3 CFR 1959-1963 Comp., p. 389.

§ 71.1 [Amended]

2. The incorporation by reference in 14 CFR 71.1 of the Federation Aviation Administration Order 7400.9G, Airspace Designations and Reporting Points, dated September 1, 1999, and effective September 16, 1999, is amended as follows:

* * * * *

Paragraph 5000 Class D airspace.

* * * * *

AGL IL D Belleville, IL [Revised]

Belleville, Scott AFB/MidAmerica Airport, IL

(Lat. 38°32′43″ N., long. 89°50′07″ W.)

That airspace extending upward from the surface to and including 3,000 feet MSL within an 4.9-mile radius of the Scott AFB/MidAmerica Airport. This Class D airspace area is effective during the specific dates and times established in advance by Notice to Airmen. The effective date and time will thereafter be continuously published in the Airport/Facility Directory.

* * * * *

Paragraph 6004 Class E airspace areas designated as an extension to a Class D airspace area.

* * * * *

AGL IL E4 Belleville, IL [New]

Belleville, Scott AFB/MidAmerica Airport, IL

(Lat. 38°32′43″ N., long. 89°50′07″ W.)

Scott TACAN

(Lat. 38°32′43″ N., long. 89°51′06″ W.)

That airspace extending upward from the surface within 1.5 miles each side of the Scott TACAN 312° radial extending from the 4.9-mile radius of the Scott AFB/MidAmerica Airport to 10.0 miles northwest of the Scott TACAN. This Class E airspace area is effective during the specific dates and times established in advance by Notice to Airmen. The effective date and time will thereafter be continuously published in the Airport/Facility Directory.

* * * * *

Paragraph 6005 Class E airspace areas extending from 700 feet or more above the surface of the earth.

* * * * *

AGL IL E5 Belleville, IL [Revised]

Belleville, Scott AFB/MidAmerica Airport, IL

(Lat. 38°32′43″ N., long. 89°50′07″ W.)

Scott TACAN

(Lat. 38°32′43″ N., long. 89°51′06″ W.)

That airspace extending upward from 700 feet above the surface within a 7.4-mile radius of Scott AFB/MidAmerica Airport and within 1.5 miles each side of the Scott TACAN 312° radial extending from the 7.4-mile radius to 10.0 miles northwest of the Scott TACAN and within 1.7 miles each side of the Scott TACAN 140° radial extending from the 7.4-mile radius to 14.0 miles southeast of the Scott TACAN, excluding that airspace within the St. Jacob, IL, and Cahokia, IL, Class E airspace areas.

* * * * *

Issued in Des Plaines, Illinois on April 26, 2000.
Christopher R. Blum,
Manager, Air Traffic Division.

[FR Doc. 00-12166 Filed 5-12-00; 8:45 am]

BILLING CODE 4910-13-M